DEPARTMENT OF HEALTH AND HUMAN SERVICES

Centers for Disease Control and Prevention

[30DAY-08-01]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Thyroid Disease in Persons Exposed to Radioactive Fallout From Atomic Weapons Testing at the Nevada Test Site: Phase III—NEW—National Center for Environmental Health (NCEH), Centers for Disease Control and Prevention (CDC). In 1997, the National Cancer Institute (NCI) released a report entitled, Estimated Exposures and Thyroid Doses Received by the American People from I-131 in Fallout Following Nevada Nuclear Bomb Test. This report provided county-level estimates of the potential radiation doses to the thyroid gland of American citizens resulting from atmospheric nuclear weapons testing at the Nevada Test Site (NTS) in the 1950's and 1960's. The Institute of Medicine (IOM) conducted a formal peer review of the report at the request of the Department of Health and Human Services. In the review, IOM noted that the public might desire an assessment of the potential health impact of nuclear weapons testing on American populations. The IOM also suggested that further studies of the Utah residents who have participated in previous studies of radiation exposure and thyroid disease might provide this information.

The National Center for Environmental Health (NCEH), Centers for Disease Control and Prevention (CDC), proposes to conduct a study of the relation between exposure to radioactive fallout from atomic weapons testing and the occurrence of thyroid disease on an extension of a cohort study previously conducted by the University of Utah, Salt Lake City, Utah. This study is designed as a follow-up to a retrospective cohort study begun in 1965. This is the third examination (hence Phase III) of a cohort of individuals who were children living in Washington County, Utah, and Lincoln County, Nevada, in 1965 (Phase I) and who were presumably exposed to fallout from above-ground nuclear weapons testing at the Nevada Test Site in the 1950s. The cohort also includes a control group who were children living in Graham County, Arizona, in 1966 and presumably unexposed to fallout.

The study headquarters will be at the University of Utah in Salt Lake City, Utah. The field teams will spend the majority of their time in the urban areas nearest the original counties if the same pattern of migration holds that was found in Phase II. These urban areas include St. George, Utah, the Wasatch Front in Utah, Las Vegas, Nevada, Phoenix/Tucson, Arizona, and Denver, Colorado. In addition, some time will be spent in California as a number of subjects had relocated there at the time of Phase II.

The purposes of Phase III are three fold: First to re-examine the participants in Phase II for occurrence of thyroid neoplasia and other diseases since 1986. Residents of the three counties who moved before they could be included in the original cohort will be located and examined. Second, disease incidence will be analyzed in addition to period prevalence as used in the Phase II analysis. Use of incidence will allow for greater power to detect increased risk of disease in the exposed population through the use of person-time. Third, disease specific mortality rates for Washington County, Utah, and a control county, Cache County, Utah, will be compared for people who lived in these two counties during the time of above-ground testing.

Respondents | Number of respondents | Responses/respondent | Average burden response (hrs)
Telephone Location Script | 4800 | 1 | 5/60
Telephone Location Script (Return Letter) | 240 | 1 | 5/60
Refusal Telephone Script | 48 | 1 | 5/60
New Person Location Telephone Script | 2400 | 1 | 5/60
Recruitment Next of Kin Telephone Script | 240 | 1 | 5/60
Questionnaire Not Returned Script #1 (New) | 48 | 1 | 5/60
Questionnaire Not Returned Script #2 (New) | 12 | 1 | 5/60
Recruitment & Appointment Script | 4800 | 1 | 5/60
Broken Appointment Telephone Script | 240 | 1 | 5/60
New Parent Recruitment & Appointment Script | 120 | 1 | 5/60
New Parent Alternate Recruitment Script | 60 | 1 | 5/60
Other New Parent Recruitment & Appointment | 30 | 1 | 5/60
Other Parent or Relative Permissions Script | 30 | 1 | 5/60
Exposure Questionnaire | 2400 | 1 | 1
Questionnaire Preparation Booklet | 2400 | 1 | 30/60
Group Member Information | 4800 | 1 | 5/60
Consent Forms | 4800 | 1 | 10/60
Interview Booklet | 4800 | 1 | 30/60
Medical History Questionnaire (male) | 2400 | 1 | 1
Medical Records Release Telephone Script | 240 | 1 | 5/60
Medical History Questionnaire (female) | 2400 | 1 | 1
Travel Form | 480 | 1 | 20/60
Residence History | 2400 | 1 | 5/60
Refusal Questionnaire | 48 | 1 | 5/60

This comparison will determine if the risk of mortality in Washington County (the exposed group) is significantly greater than Cache County (the control group). CDC/NCEH is requesting a three-year clearance. The annual burden hours are estimated to be 13,607.

Dated: December 15, 2000.
Nancy Cheal,
Acting Associate Director for Policy, Planning, and Evaluation Centers for Disease Control and Prevention (CDC).

[FR Doc. 00-32548 Filed 12-20-00; 8:45 am]

BILLING CODE 4163-18-P